COMMITTEE FOR THE IMPLEMENTATION OF TEXTILE AGREEMENTS

Adjustment of Import Limits for Certain Cotton, Wool, Man-Made Fiber, Silk Blend and Other Vegetable Fiber Textiles and Textile Products Produced or Manufactured in the Republic of Korea

October 7, 2003.

AGENCY: Committee for the Implementation of Textile Agreements (CITA).

ACTION: Issuing a directive to the Commissioner, Bureau of Customs and Border Protection adjusting limits.

EFFECTIVE DATE: October 16, 2003.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the Bureau of Customs and Border Protection website at http://www.customs.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The current limits for certain categories are being adjusted for swing, carryover, carryforward and special shift.

A description of the textile and apparel categories in terms of HTS numbers is available in the CORRELATION: Textile and Apparel Categories with the Harmonized Tariff Schedule of the United States (see Federal Register notice 68 FR 1599, published on January 13, 2003). Also see 67 FR 63629, published on October 15, 2002.

Philip J. Martello,
Acting Chairman, Committee for the Implementation of Textile Agreements.

Committee for the Implementation of Textile Agreements

October 7, 2003.

Commissioner,

Bureau of Customs and Border Protection, Washington, DC 20229

Dear Commissioner: This directive amends, but does not cancel, the directive issued to you on October 8, 2002, by the Chairman, Committee for the Implementation of Textile Agreements. That directive concerns imports of certain cotton, wool, man-made fiber, silk blend and other vegetable fiber textiles and textile products, produced or manufactured in the Republic of Korea and exported during the twelve-month period which began on January 1, 2003 and extends through December 31, 2003.

Effective on October 16, 2003, you are directed to adjust the limits for the following categories, as provided for under the Uruguay Round Agreement on Textiles and Clothing:

Category | Adjusted twelve-month limit ¹
Group I |
200-220, 224-V ², 224-O ³, 225-227, 300-326, 360-363, 369pt., ⁴, 400-414, 469pt., ⁵, 603, 604, 611-620, 625-629, 666pt. ⁶, as a group | 268,944,094 square meters equivalent.
Sublevels within Group I |
200 | 640,029 kilograms.
201 | 3,429,125 kilograms.
611 | 5,098,397 square meters.
619/620 | 111,586,677 square meters.
624 | 10,966,215 square meters.
625/626/627/628/629 | 21,170,481 square meters.
Group II |
237, 239pt. ⁷, 331pt. ⁸, 332-348, 351, 352, 359pt., 433-438, 440-448, 459-W ⁹, 459pt. ¹⁰, 631pt. ¹¹, 633-648, 651, 652, 659-H ¹², 659-S ¹³ and 659pt. ¹⁴, as a group | 583,849,978 square meters equivalent.
Sublevels within Group II |
333/334/335 | 368,724 dozen of which not more than 188,460 dozen shall be in Category 335.
336 | 70,780 dozen.
338/339 | 1,638,771 dozen.
340 | 931,065 dozen of which not more than 483,439 dozen shall be in Category 340-D ¹⁵.
341 | 253,172 dozen.
342/642 | 299,108 dozen.
345 | 160,678 dozen.
347/348 | 718,630 dozen.
351/651 | 314,220 dozen.
352 | 244,517 dozen.
433 | 15,519 dozen.
434 | 7,959 dozen.
435 | 41,586 dozen.
436 | 17,605 dozen.
438 | 69,286 dozen.
442 | 59,492 dozen.
444 | 63,639 numbers.
445/446 | 58,220 dozen.
447 | 99,328 dozen.
448 | 41,853 dozen.
459-W | 113,213 kilograms.
631pt. | 83,909 dozen pairs.
633/634/635 | 1,447,348 dozen of which not more than 164,125 dozen shall be in Category 633 and not more than 611,645 dozen shall be in Category 635.
636 | 341,220 dozen.
638/639 | 5,635,027 dozen.
640-D ¹⁶ | 3,049,675 dozen.
640-O ¹⁷ | 2,910,937 dozen.
641 | 1,151,914 dozen of which not more than 44,676 dozen shall be in Category 641-Y ¹⁸.
643 | 876,267 numbers.
644 | 1,342,946 numbers.
645/646 | 4,169,617 dozen.
647/648 | 1,426,540 dozen.
659-H | 1,615,571 kilograms.
659-S | 246,152 kilograms.
Levels not in a group
846 | 470,126 dozen.
¹ The limits have not been adjusted to account for any imports exported after December 31, 2002.
² Category 224-V: only HTS numbers 5801.21.0000, 5801.23.0000, 5801.24.0000, 5801.25.0010, 5801.25.0020, 5801.26.0010, 5801.26.0020, 5801.31.0000, 5801.33.0000, 5801.34.0000, 5801.35.0010, 5801.35.0020, 5801.36.0010 and 5801.36,0020.
³Category 224-O: all remaining HTS numbers in Category 224.
⁴ Category 369pt.: all HTS numbers except 4202.12.4000, 4202.12.8020, 4202.12.8060, 4202.22.4020, 4202.22.4500, 4202.22.8030, 4202.32.4000, 4202.32.9530, 4202.92.0505, 4202.92.1500, 4202.92.3016, 4202.92.6091, 5601.10.1000, 5601.21.0090, 5701.90.1020, 5701.90.2020, 5702.10.9020, 5702.39.2010, 5702.49.1020, 5702.49.1080, 5702.59.1000, 5702.99.1010, 5702.99.1090, 5705.00.2020, 5805.00.3000, 5807.10.0510, 5807.90.0510, 6301.30.0010, 6301.30.0020, 6302,51.1000, 6302.51.2000, 6302.51.3000, 6302.51.4000, 6302.60.0010, 6302.60.0030, 6302.91.0005, 6302.91.0025, 6302.91.0045, 6302.91.0050, 6302.91.0060, 6303.11.0000, 6303.91.0010, 6303.91.0020, 6304.91.0020, 6304.92.0000, 6305.20.0000, 6306.11.0000, 6307.10.1020, 6307.10.1090, 6307.90.3010, 6307.90.4010, 6307.90.5010, 6307.90.8910, 6307.90.8945, 6307.90.9882, 6406.10.7700, 9404.90.1000, 9404.90.8040 and 9404.90.9505.
⁵ Category 469pt.: all HTS numbers except 5601.29.0020, 5603.94.1010, 6304.19.3040, 6304.91.0050, 6304.99.1500, 6304.99.6010, 6308.00.0010 and 6406.10.9020.
⁶ Category 666pt.: all HTS numbers except 5805.00.4010, 6301.10.0000, 6301.40.0010, 6301.40.0020, 6301.90.0010, 6302.53.0010, 6302.53.0020, 6302.53.0030, 6302.93.1000, 6302.93.2000, 6303.12.0000, 6303.19.0010, 6303.92.1000, 6303.92.2010, 6303.92.2020, 6303.99.0010, 6304.11.2000, 6304.19.1500, 6304.19.2000, 6304.91.0040, 6304.93.0000, 6304.99.6020, 6307.90.9884, 9404.90.8522 and 9404.90.9522.
⁷ Category 239pt.: only HTS number 6209.20.5040 (diapers).
⁸ Category 331pt.: all HTS numbers except 6116.10.1720, 6116.10.4810, 6116.10.5510, 6116.10.7510, 6116.92.6410, 6116.92.6420, 6116.92.6430, 6116.92.6440, 6116.92.7450, 6116.92.7460, 6116.92.7470, 6116.92.8800, 6116.92.9400 and 6116.99.9510.
⁹ Category 459-W: only HTS number 6505.90.4090.
¹⁰ Category 459pt.: all HTS numbers except 6505.90.4090 (Category 459-W); 6115.19.8020, 6117.10.1000, 6117.10.2010, 6117.20.9020, 6212.90.0020, 6214.20.0000, 6405.20.6030, 6405.20.6060, 6405.20.6090, 6406.99.1505, 6406.99.1560.
¹¹ Category 631pt.: all HTS numbers except 6116.10.1730, 6116.10.4820, 6116.10.5520, 6116.10.7520, 6116.93.8800, 6116.93.9400, 6116.99.4800, 6116.99.5400 and 6116.99.9530.
¹² Category 659-H: only HTS numbers 6502.00.9030, 6504.00.9015, 6504.00.9060, 6505.90.5090, 6505.90.6090, 6505.90.7090 and 6505.90.8090.
¹³ Category 659-S: only HTS numbers 6112.31.0010, 6112.31.0020, 6112.41.0010, 6112.41.0020, 6112.41.0030, 6112.41.0040, 6211.11.1010, 6211.11.1020, 6211.12.1010 and 6211.12.1020.
¹⁴ Category 659pt.: all HTS numbers except 6502.00.9030, 6504.00.9015, 6504.00.9060, 6505.90.5090, 6505.90.6090, 6505.90.7090, 6505.90.8090 (Category 659-H); 6112.31.0010, 6112.31.0020, 6112.41.0010, 6112.41.0020, 6112.41.0030, 6112.41.0040, 6211.11.1010, 6211.11.1020, 6211.12.1010, 6211.12.1020 (Category 659-S); 6115.11.0010, 6115.12.2000, 6117.10.2030, 6117.20.9030, 6212.90.0030, 6214.30.0000, 6214.40.0000, 6406.99.1510 and 6406.99.1540.
¹⁵ Category 340-D: only HTS numbers 6205.20.2015, 6205.20.2020, 6205.20.2025 and 6205.20.2030.
¹⁶ Category 640-D: only HTS numbers 6205.30.2010, 6205.30.2020, 6205.30.2030, 6205.30.2040, 6205.90.3030 and 6205.90.4030.
¹⁷ 640-O: only HTS numbers 6203.23.0080, 6203.29.2050, 6205.30.1000, 6205.30.2050, 6205.30.2060, 6205.30.2070, 6205.30.2080 and 6211.33.0040.
¹⁸ Category 641-Y: only HTS numbers 6204.23.0050, 6204.29.2030, 6206.40.3010 and 6206.40.3025.

The Committee for the Implementation of Textile Agreements has determined that these actions fall within the foreign affairs exception to the rulemaking provisions of 5 U.S.C. 553(a)(1).

Sincerely,

Philip J. Martello,

Acting Chairman, Committee for the Implementation of Textile Agreements.

[FR Doc. 03-26011 Filed 10-14-03; 8:45 am]

BILLING CODE 3510-DR-S